FEDERAL COMMUNICATIONS COMMISSION

47 CFR Part 73

[DA 00-2828; MM Docket No. 97-252; RM-9602]

Radio Broadcasting Services; Columbia City, Florida

AGENCY: Federal Communications Commission.

ACTION: Final rule.

SUMMARY: In response to a partial appeal of the Report and Order, 64 FR 70671 (December 17, 1999) in this proceeding, this document overrules the conclusion in the Report and Order that Columbia City, Florida, is not a community entitled to a broadcast allotment pursuant to Section 307(b) of the Communications Act of 1934, as amended. This document finds that Columbia City, Florida, is a community entitled to a broadcast allotment and allots Channel 243A to Columbia City, Florida, as the community's first local broadcast service. The coordinates for that channel are 30-04-12 North Latitude and 82-41-42 West Longitude.

DATES: Effective January 29, 2001. A filing window for Channel 243A at Columbia City, Florida, will not be opened at this time. Instead, the issue of opening a filing window for that channel will be addressed by the Commission in a subsequent Order.

FOR FURTHER INFORMATION CONTACT: R. Barthen Gorman, Mass Media Bureau, (202) 418-2180.

SUPPLEMENTARY INFORMATION: This is a synopsis of the Commission's Memorandum Opinion and Order, MM Docket No. 97-252, adopted December 6, 2000, and released December 15, 2000. The full text of this Commission decision is available for inspection and copying during normal business hours in the FCC's Reference Information Center at Portals II, CY-A257, 445 12th Street, SW, Washington, DC. The complete text of this decision may also be purchased from the Commission's copy contractors, International Transcription Service, Inc., (202) 857-3800, located at 1231 20th Street, NW., Washington, DC 20036.

List of Subjects in 47 CFR Part 73

Radio broadcasting.

Part 73 of Title 47 of the Code of Federal Regulations is amended as follows:

Part 73—RADIO BROADCAST SERVICES

1. The authority citation for Part 73 reads as follows:

Authority: 47 U.S.C. 154, 303, 334 and 336.

73.202 [Amended]

2. Section 73.202(b), the Table of FM Allotments under Florida, is amended by adding Columbia City, Channel 243A.

Federal Communications Commission.
John A. Karousos,
Chief, Allocations Branch, Policy and Rules Division, Mass Media Bureau.

[FR Doc. 00-32790 Filed 12-22-00; 8:45 am]

BILLING CODE 6712-01-P